POSTAL SERVICE

39 CFR PART 111

Price of Semipostal Stamps

AGENCY: Postal Service.

ACTION: Final rule.

SUMMARY: This rule amends the Domestic Mail Manual (DMM) provisions relating to the pricing of semipostal stamps. This final rule implements legislative changes to the semipostal program and amends the Domestic Mail Manual provisions relating to the pricing and use of semipostal stamps.

DATES: This rule is effective on March 23, 2002.

Applicability date: DMM P022.1.6(b) and R000.4.0 (last paragraph) are applicable on the date when the Heroes semipostal stamp is made available for purchase.

ADDRESSES: Questions about this rule may be addressed to the Manager, Stamp Services, ATTN: Semipostal Stamp Program DMM Rules, 475 L'Enfant Plaza SW, Room 5670, Washington, DC 20260-2435.

FOR FURTHER INFORMATION CONTACT: Cindy Tackett (202) 268-6555.

SUPPLEMENTARY INFORMATION: The Postal Service is amending Sections P014, P022, and R000 of the DMM to reflect the enactment of the following two acts: the Semipostal Authorization Act, Public Law No. 106-253, 114 Stat. 634 (2000) and the 9/11 Heroes Stamp Act of 2001, Public Law No. 107-67, § 652, 115 Stat. 514 (2001). This notice also adopts DMM standards implementing the decision of the Governors of the United States Postal Service on the prices of the Breast Cancer Research semipostal stamp (BCRS) and the Heroes semipostal stamp.

Background

The Semipostal Authorization Act authorizes the Postal Service to establish a 10-year program to sell semipostal stamps. The 10-year period begins on the date that the Postal Service begins to sell the selected semipostal stamps to the public.

Public Law No. 107-67 extends the sales period of the BCRS until the end of 2003 and directs the Postal Service to issue a semipostal stamp to provide assistance to families of the emergency relief personnel killed or permanently disabled in connection with the terrorist attacks of September 11, 2001. The Heroes semipostal stamp is to be issued as soon as practicable and may remain on sale through December 31, 2004. Funds raised in connection with this semipostal stamp are to be transferred to the Federal Emergency Management Agency.

Under 39 U.S.C. 414 and 416, the Governors are authorized to determine the price of the BCRS stamp and other semipostal stamps. On January 8, 2002, the Governors voted to change the price of the BCRS from 40 cents to 45 cents. The Governors also voted to set the price of the Heroes semipostal stamp at 45 cents. The new price of the BCRS is effective on March 23, 2002. The price of the Heroes semipostal stamp is effective on the date of the stamp's issuance, which is yet to be determined.

The refund provisions of Section P014 of the DMM are amended to apply to all existing and future semipostal stamps. In addition, the provisions of DMM P022 are amended to reflect the price change for the BCRS and the introduction of the Heroes semipostal stamp. Certain provisions of DMM P022 are revised to apply to all semipostal stamps. DMM R000 is amended to reflect the prices and postage values of the BCRS and the Heroes semipostal stamp.

Although exempt from the notice and comment requirements of the Administrative Procedure Act (5 U.S.C. 553(b), (c)) regarding rulemaking by 39 U.S.C. 410(a), the Postal Service hereby amends the following standards of the DMM, incorporated by reference into the Code of Federal Regulations. See 39 CFR part 111.

List of Subjects in 39 CFR Part 111

Administrative practice and procedure, Postal Service.

For the reasons set out in the preamble, 39 CFR part 111 is amended as follows:

PART 111—[AMENDED]

1. The authority citation for 39 CFR part 111 is revised to read as follows:

Authority: 5 U.S.C. 552(a); 39 U.S.C. 101, 401, 403, 414, 416, 3001-3011, 3201-3219, 3403-3406, 3621, 3626, 5001.

2. Revise the following sections of the Domestic Mail Manual as set forth below:

Domestic Mail Manual (DMM)

* * * * *

P Postage and Payment Methods

* * * * *

P000 Basic Information

* * * * *

P010 General Standards

* * * * *

P014 Refunds and Exchanges

* * * * *

2.0 POSTAGE AND FEES REFUNDS

* * * * *

[Revise the heading and text of 2.10 to read as follows:]

2.10 Semipostal Stamps

Customers may exchange or convert semipostal stamps for their postage value (i.e., the price of the stamps less the contribution amount) to the extent exchange or conversion of postage stamps is permitted under P014. The postage the customer exchanges or converts is equal to the First-Class Mail single-piece rate in effect at the time of exchange. However, if the customer provides a receipt showing the date of purchase, the postage exchanged or converted is equal to the First-Class Mail single-piece rate in effect at the time of purchase. The contribution amount is not refundable and is not included in the exchange or conversion value.

* * * * *

P020 Postage Stamps and Stationery

P022 Postage Stamps

1.0 PURCHASE AND USE

* * * * *

[Revise the heading and text of 1.6 to read as follows:]

1.6 Semipostal Stamps

Semipostal stamps are subject to special limitations and conditions:

a. Semipostal stamps are stamps that are sold for a price that exceeds the postage value of the stamp. The difference between the price and postage value of semipostal stamps, also known as the differential, less an offset for the Postal Service's reasonable costs, as determined by the Postal Service, is a contribution for a specific cause. Semipostal stamps provide a means for customers to contribute to specific causes. Semipostal stamps are offered for sale for a limited time as provided by law or by the Postal Service.

b. A brief description of semipostal stamps follows:

1. The price of the Breast Cancer Research semipostal stamp (BCRS) is 45 cents. The difference between the purchase price and the First-Class Mail nonautomation single-piece first-ounce letter rate in effect at the time of purchase constitutes a contribution to breast cancer research and cannot be used to pay postage. Funds (net of the Postal Service's reasonable costs) raised in connection with the BCRS are transferred to the Department of Defense and the National Institutes of Health.

2. The price of the Heroes semipostal stamp is 45 cents. The difference between the purchase price and the First-Class Mail nonautomation single-piece first-ounce letter rate in effect at the time of purchase is a contribution to provide assistance to the families of the emergency relief personnel killed or permanently disabled in connection with the terrorist attacks of September 11, 2001, and cannot be used to pay postage. Funds (net of the Postal Service's reasonable costs) raised in connection with the Heroes semipostal stamp are transferred to the Federal Emergency Management Agency.

c. The postage value of each semipostal stamp is the First-Class Mail nonautomation single-piece first-ounce letter rate in R100.1.2 that is in effect at the time of purchase. Additional postage must be affixed to pieces weighing in excess of 1 ounce, pieces subject to the nonstandard surcharge, or pieces for which special services have been elected. The postage value of semipostal stamps is fixed according to the First-Class Mail nonautomation single-piece first-ounce letter rate in effect at the time of purchase; the postage value of semipostal stamps purchased before any subsequent change in the First-Class Mail nonautomation single-piece first-ounce letter rate is unaffected by any subsequent change in that rate.

* * * * *

R Rates and Fees

R000 Stamps and Stationery

* * * * *

[Revise the table in item 4.0 as follows:]

Form per purpose | Denomination
* * * *
Breast Cancer Research, Panes of up to 20 | Purchase price of $0.45; postage value equivalent to First-Class Mail nonautomation single-piece rate (currently $0.34); remainder is contribution to fund breast cancer research.
Heroes, Panes of up to 20 | Purchase price of $0.45; postage value equivalent to First-Class Mail nonautomation single-piece rate (currently $0.34); remainder is contribution to provide assistance to the families of the emergency relief personnel killed or permanently disabled in connection with the terrorist attacks of September 11, 2001.

* * * * *

An appropriate amendment to 39 CFR 111.3 will be published to reflect these changes.

Stanley F. Mires,
Chief Counsel, Legislative.

[FR Doc. 02-4213 Filed 2-25-02; 8:45 am]

BILLING CODE 7710-12-P